DEPARTMENT OF ENERGY

Office of Arms Control and Nonproliferation; Proposed Subsequent Arrangement

AGENCY: Department of Energy.

ACTION: Notice of subsequent arrangement.

SUMMARY: This notice is being issued under the authority of Section 131 of the Atomic Energy Act of 1954, as amended (42 U.S.C. 2160). The Department is providing notice of a proposed “subsequent arrangement” under Article 5 Paragraph 2 of the Agreement for Cooperation Between the Government of the United States of America and the People's Republic of Bangladesh Concerning Peaceful Uses of Nuclear Energy and the Government of the United States of America and the Government of the Republic of Korea Concerning Civil Uses of Atomic Energy.

This subsequent arrangement concerns the retransfer of U.S.-origin reactor parts to the Bangladesh Atomic Energy Commission's TRIGA Mark II research reactor from the Ministry of Science and Technology of the Republic of Korea. The items to be transferred are: Eight control rod drive motors; one servo motor; eight magnets; twenty-one limit switches; eight mounting barriers; three electro-mechanical choppers; six instruments and indicators for period, fuel and water temperature, and percent power; six rod position indicators; two mode switch assemblies; three potentiometers; five relays; ten magnetic-craft relays; five mercury wetted contact relays; three AC relays; twenty-one control panel circuit boards; 150 pilot lamps; and two fuel handling tools. The Government of Bangladesh has provided formal assurances that the replacement parts will be subject to the U.S.-Bangladesh Agreement for Cooperation Concerning Peaceful Uses of Nuclear Energy upon entry in Bangladesh and will not be re-transferred to a third party without prior approval of the United States.

In accordance with Section 131 of the Atomic Energy Act of 1954, as amended, we have determined that this subsequent arrangement will not be inimical to the common defense and security.

This subsequent arrangement will take effect no sooner than fifteen days after the date of publication of this notice.

For the Department of Energy.
Kurt Siemon,
Acting Director, Office of Nonproliferation Policy.

[FR Doc. 05-8009 Filed 4-20-05; 8:45 am]

BILLING CODE 6450-01-P